DEPARTMENT OF AGRICULTURE

Office of Advocacy and Outreach

Beginning Farmers and Ranchers Advisory Committee—Subcommittee on Land Tenure

AGENCY: Office of Advocacy and Outreach, USDA.

ACTION: Notice of public meeting.

SUMMARY: Pursuant to the Federal Advisory Committee Act (FACA), the Office of Advocacy and Outreach (OAO) is announcing a meeting of the Beginning Farmers and Ranchers Advisory Committee's (BFRAC) Subcommittee on Land Tenure (Subcommittee). The Subcommittee is being convened to consider issues involving access to land, farm business transition and land tenure. The members will perform preliminary work on recommendations that will be submitted to the parent committee. The BFRAC will prepare recommendations for USDA Secretary Vilsack's consideration in making policy decisions affecting land tenure during its next public meeting.

DATES: The subcommittee meeting is scheduled for Monday through Wednesday, June 22-24, 2015, from 8:00 a.m.-4:30 p.m. CST. Tuesday, June 23, from 10:30-3:30 p.m. CST has been set aside for public comments. All persons wishing to make comments during this meeting must check in between 10:00 a.m. and 10:30 a.m. CST on June 23, at the registration table. All public commenters will be allowed a maximum of three minutes. If the number of registrants requesting to speak is greater than what can be reasonably accommodated during the scheduled open public meeting timeframe, speakers will be scheduled on a first-come basis.

Public written comments for the Subcommittee's consideration may be submitted by close of business on June 19, 2015, to Mrs. Kenya Nicholas, Designated Federal Official, USDA OAO, 1400 Independence Avenue SW., Room 520-A, Washington, DC 20250-0170, Phone (202) 720-6350, Fax (202) 720-7704, Email: acbfr@osec.usda.gov. A conference call line will be available and open for public comments on June from 10:30 a.m. through 3:30 p.m. CST on Tuesday, June 23, for all who wish to listen in on the proceeding through the following telephone number: (888) 566-6179 and enter passcode 3184649.

Members of the public may submit written statements to the Land Tenure Subcommittee at any time. Written submissions are encouraged to either be less than one page in length, or be accompanied by an executive summary and a summary of policy initiatives to include, but not limited to, the following topics:

1. How are farmers currently making farm business transitions and land or asset transfers between generations and non-family owners?

2. How do changes in agricultural land tenure, such as increased reliance on leasing, impact the ability of USDA to serve the needs of America's farm families?

3. How do changes in land tenure affect the access and availability of farmland for new and beginning farmers?

4. How do we help farms plan for transitions in advance and best support those who inherit farmland?

ADDRESSES: This public advisory committee meeting will be held at Drake University, Old Main, Levitt Hall, 25th and University Ave., Des Moines, Iowa 50311. On-street parking and on-site parking is available. There is also a drop-off area directly in front of the entrance to the property. There will be signs directing attendees to the meeting room.

FOR FURTHER INFORMATION CONTACT: Questions should be directed to Phyllis Morgan, Executive Assistant, OAO, 1400 Independence Ave. SW., Whitten Bldg., 520-A, Washington, DC 20250, Phone: (202) 720-6350, Fax: (202) 720-7136, email: Phyllis.Morgan@osec.usda.gov.

SUPPLEMENTARY INFORMATION: The BFRAC members met in Austin, Texas, on September 23-24, 2014, to deliberate upon the final set of recommendations for the Secretary on issues involving communications, service, and advocacy in identifying barriers for beginning farmers and ranchers. They also considered issues around lending and credit in parsing statistics generated by USDA. Since that meeting, the Secretary tasked the BFRAC with providing recommendations on access to land, farm business transition, and land tenure. Please visit our Web site at: http://www.outreach.usda.gov/smallbeginning/index.htm for additional information on the BFRAC.

The public is asked to pre-register for the meeting by June 19, 2015. You may pre-register for the public meeting by submitting an email to acbfr@osec.usda.gov with your name, organization or affiliation, comments, or any questions for the subcommittee's consideration. You may also fax this information to (202) 720-7704. Members of the public who wish to make comments during the subcommittee meeting must arrive between 9:30 a.m. and 10:00 a.m. on Tuesday, June 23, and register (confirm) at the check-in table.

The agenda is as follows: Day 1: Closed Session. Day 2: Subcommittee discussions, public comments, and subcommittee deliberations. Day 3: Closed Session. Please visit the Beginning Farmers and Ranchers Web site for the full agenda. All agenda topics and documents will be made available to the public at: http://www.outreach.usda.gov/smallbeginning/index.htm. Copies of the agenda will also be distributed at the meeting.

Meeting Accommodations: USDA is committed to ensuring that everyone is accommodated in our work environment, programs, and events. If you are a person with a disability and request reasonable accommodations to participate in this meeting, please note the request in your registration and you may contact Mrs. Kenya Nicholas in advance of the meeting by or before close of business on June 19, 2015, by phone at (202) 720-6350, fax (202) 720-7704, or email: kenya.nicholas@osec.usda.gov.

Issued in Washington, DC, this 15th day of June 2015.
Christian Obineme,
Associate Director, Office of Advocacy and Outreach.

[FR Doc. 2015-15070 Filed 6-17-15; 8:45 am]

BILLING CODE 3412-89-P